DEPARTMENT OF COMMERCE

International Trade Administration

[A-570-016]

Certain Passenger Vehicle and Light Truck Tires From the People's Republic of China: Postponement of Preliminary Determination of Antidumping Duty Investigation

AGENCY: Enforcement and Compliance, International Trade Administration, Commerce.

DATES: Effective October 9, 2014.

FOR FURTHER INFORMATION CONTACT: Emily Halle, AD/CVD Operations, Office VII, Enforcement and Compliance, International Trade Administration, U.S. Department of Commerce, 14th Street and Constitution Avenue NW., Washington, DC 20230; telephone: (202) 482-0176.

SUPPLEMENTARY INFORMATION:

Background

On July 14, 2014, the Department of Commerce (the Department) initiated the antidumping duty (AD) investigation of certain passenger vehicle and light truck tires from the People's Republic of China.¹ Currently, the preliminary determination is due no later than December 1, 2014.

¹ See Certain Passenger Vehicle and Light Truck Tires from the People's Republic of China: Initiation of Antidumping Duty Investigation, 79 FR 42292 (July 21, 2014).

Postponement of Preliminary Determination

Section 733(b)(1)(A) of the Tariff Act of 1930, as amended (the Act), and 19 CFR 351.205(b)(1) require the Department to issue the preliminary determination in an AD investigation no later than 140 days after the date on which the Department initiated the investigation.

Pursuant to section 733(c)(1)(B) of the Act and 19 CFR 351.205(b)(2), the Department concludes that because of the extraordinary complexity of this case and the number of firms whose activities we must investigate, including over 80 separate rate applications, it is not practicable to complete the preliminary determination by the current deadline. Therefore, in accordance with section 733(c)(1)(B) of the Act and 19 CFR 351.205(b)(2), the Department is postponing the deadline for the preliminary determination to no later than 190 days after the date on which it initiated this investigation. As a result of this postponement, the deadline for completion of the preliminary determination is now January 20, 2015.

This notice is issued and published pursuant to section 733(c)(2) of the Act and 19 CFR 351.205(f)(1).

Dated: October 3, 2014.
Paul Piquado,
Assistant Secretary for Enforcement and Compliance.

[FR Doc. 2014-24167 Filed 10-8-14; 8:45 am]

BILLING CODE 3510-DS-P